DEPARTMENT OF ENERGY

Federal Energy Regulatory Commission

Notice of Effectiveness of Exempt Wholesale Generator Status

| Docket Nos.
Dominion Solar Gen-Tie, LLC | EG14-71-000
Desert Green Solar Farm LLC | EG14-72-000
Seiling Wind, LLC | EG14-73-000
Seiling Wind II, LLC | EG14-74-000
Mammoth Plains Wind Project, LLC | EG14-75-000
TX Jumbo Road Wind, LLC | EG14-76-000
Palo Duro Wind Energy, LLC | EG14-77-000
OCI Alamo 4 LLC | EG14-78-000
Newark Energy Center, LLC | EG14-79-000

Take notice that during the months of September 2014, the status of the above-captioned entities as Exempt Wholesale Generators became effective by operation of the Commission's regulations. 18 CFR 366.7(a).

Dated: October 15, 2014.
Kimberly D. Bose,
Secretary.

[FR Doc. 2014-25007 Filed 10-21-14; 8:45 am]

BILLING CODE 6717-01-P